DEPARTMENT OF THE INTERIOR

Bureau of Land Management

[CO-910-06-7122-PN-C002]

Notice of Final Amended Supplementary Rules for Public Land Administered by the Bureau of Land Management in Colorado Relating to the Unlawful Use of Alcohol by Underage Persons, Driving Under the Influence of Alcohol and/or Drugs, Firearms and Drug Paraphernalia Use and Possession on Public Land

AGENCY: Bureau of Land Management, Interior.

ACTION: Notice; Final amended supplementary rules for public land within the State of Colorado.

SUMMARY: The Colorado State Office of the Bureau of Land Management (BLM) is amending the supplementary rules published in 2003 (January 14, 203, 68 FR 1858) for the public lands within the State of Colorado. The supplementary rules relate to the illegal use of alcohol and drugs on the public lands. The amended supplementary rules are necessary to protect natural resources and the health and safety of public land users. These amended supplementary rules will allow BLM personnel to continue enforcement of existing public land regulations pertaining to alcohol and drug use in a manner consistent with current state laws as contained in the Colorado Revised Statutes.

DATES: These rules are effective March 2, 2007.

FOR FURTHER INFORMATION CONTACT: Dorothy Bensusan, Bureau of Land Management, 2850 Youngfield Street, Lakewood, Colorado 80215, telephone (303) 239-3893. Persons who use a telecommunications device for the deaf (TDD) may contact this individual by calling the Federal Information Relay Service (FIRS) at (800) 877-8339, 24 hours a day, 7 days a week.

SUPPLEMENTARY INFORMATION:

I. Public Comment

II. Background

III. Procedural Matters

I. Public Comment

These supplementary rules were published as proposed in the Federal Register on October 11, 2006 (71 FR 59811), and were open for public comment for 60 days, ending December 11, 2006. No comments were received by the due date. Accordingly, these rules are being published as final.

II. Background

The BLM, Colorado, published final supplementary rules in 2003 that prohibited certain activities related to drug and alcohol use on public lands in the state. Since that publication, state legislation has been passed that is more restrictive in several of these areas, and as a result the existing supplemental rules are no longer in concurrence with state law. These amended supplementary rules will correct this, and further promote consistency between the BLM and other agencies, including the Colorado Division of Wildlife, Colorado State Parks, Colorado State Patrol, and various County Sheriff Offices where working relationships and partnerships in public land management exist.

In keeping with the BLM's performance goal of reducing threats to public health, safety, and property, these amended supplementary rules are necessary to protect the natural resources and allow for safe public recreation and public health; to reduce the potential for damage to the environment; and to enhance the safety of visitors and neighboring residents.

Alcohol-related offenses are a growing problem on the public lands. Unlawful consumption of alcohol and drugs has the potential to pose a significant health and safety hazard to all users. Operation of motor vehicles while under the influence of alcohol or drugs can result in the destruction of natural resources and property, and/or serious physical injury or death.

Of special concern is the use of firearms by persons under the influence of alcohol or drugs, or in violation of state law. Vandalism to public land resources as a result of firearm use, and the clear risks to public safety, demonstrate the need for greater regulation of these activities. Possession of drug paraphernalia has frequently been linked to other illegal use of controlled substances, including cultivation, manufacture or possession for distribution. The BLM, in keeping with the National Drug Control policy, intends to continue efforts to reduce illegal use of controlled substances on public lands. These amended supplementary rules will provide an avenue for consistent application and enforcement of alcohol and drug regulations on public lands, further enhancing public safety by all public land users.

III. Procedural Information

Executive Order 12866, Regulatory Planning and Review

These amended supplementary rules are not a significant regulatory action and are not subject to review by the Office of Management and Budget under Executive Order 12866. These amended rules will not have an effect of $100 million or more on the economy. They are directed at preventing unlawful personal behavior on public lands, for purposes of protecting public health and safety. They will not adversely affect, in a material way, the economy, productivity, competition, jobs, the environment, public health or safety, or state, local, or tribal governments or communities. These final supplementary rules will not create a serious inconsistency or otherwise interfere with an action taken or planned by another agency. The amended supplementary rules do not alter the budgetary effects of entitlements, grants, user fees, or loan programs or the right or obligations of their recipients; nor do they raise novel legal or policy issues. The amended supplementary rules merely revise the existing rules to be consistent with the Colorado Revised Statutes, as applied to public land management.

National Environmental Policy Act

BLM has prepared an environmental assessment (EA) and a Finding of No Significant Impact (FONSI) finding that the final supplementary rules will not constitute a major Federal action significantly affecting the quality of the human environment under section 102(2)(C) of the Environmental Protection Act of 1969 (NEPA), 42 U.S.C. 4332(2)(C). The final supplementary rules will enable BLM law enforcement personnel to cite persons for unlawful possession/use of alcohol or drugs on public lands for the purpose of protecting public health and safety. BLM has placed the EA and the FONSI on file in the BLM Administration Record at the address specified in the ADDRESSES section.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact, either detrimental or beneficial, on a substantial number of small entities. The final supplementary rules do not pertain specifically to commercial or governmental entities of any size, but contain rules to protect the health and safety of individuals, property, and resources on the public lands. Therefore, BLM has determined under the RFA that these final supplementary rules will not have a significant economic impact on a substantial number of small entities.

Small Business Regulatory Enforcement Fairness Act (SBREFA)

These supplementary rules do not constitute a “major rule” as defined at 5 U.S.C. 804(2). Again, the supplementary rules pertain only to individuals who may wish to use alcohol or drugs on the public lands. In this respect, the regulation of such use is necessary to protect the public lands and facilities and those, including small business concessionaires and outfitters, who use them. The supplementary rules have no effect on business, commercial, or industrial use of the public lands.

Unfunded Mandates Reform Act

These final supplementary rules do not impose an unfunded mandate on state, local, or tribal governments or the private sector of more than $100 million per year; nor do these interim final supplementary rules have a significant or unique effect on state, local, or tribal governments or the private sector. The supplementary rules do not require anything of state, local, or tribal governments. Therefore, BLM is not required to prepare a statement containing the information required by the Unfunded Mandates Reform Act (2 U.S.C. 1531 et seq.).

Executive Order 12630, Governmental Actions and Interference With Constitutionally Protected Property Rights (Takings)

The final supplementary rules do not represent a government action capable of interfering with constitutionally protected property rights. The supplementary rules do not address property rights in any form, and do not cause the impairment of anyone's property rights. Therefore, the BLM has determined that the supplementary rules would not cause a taking of private property or require further discussion of takings implications under this Executive Order.

Executive Order 13132, Federalism

The final supplementary rules will not have a substantial direct effect on the states, on the relationship between the national government and the states, or on the distribution of power and responsibilities among the various levels of government. The supplementary rules apply in only one state, Colorado, and do not address jurisdictional issues involving the Colorado State government. Therefore, in accordance with Executive Order 13132, the BLM has determined that these final supplementary rules do not have sufficient Federalism implications to warrant preparation of a Federalism Assessment.

Executive Order 12988, Civil Justice Reform

Under Executive Order 12988, the Colorado State Office of the BLM has determined that these final supplementary rules would not unduly burden the judicial system and that they meet the requirements of sections 3(a) and 3(b)(2) of the Order.

Executive Order 13175, Consultation and Coordination With Indian Tribal Governments

In accordance with E.O. 13175, we have found that these final supplementary rules do not include policies that have tribal implications. Since the supplementary rules do not change BLM policy and do not involve Indian reservation lands or resources, we have determined that the government-to-government relationships would remain unaffected. The supplementary rules only prohibit the use of alcoholic beverages and illegal drugs on public lands.

Executive Order 13211, Actions Concerning Regulations That Significantly Affect Energy Supply, Distribution, or Use

These final supplementary rules do not comprise a significant energy action. The rules will not have an adverse effect on energy supplies, production, or consumption. They only address use of alcoholic beverages and drugs on public lands, and have no conceivable connection with energy policy.

Paperwork Reduction Act

These final supplementary rules do not contain information collection requirements that the Office of Management and Budget must approve under the Paperwork Reduction Act of 1995, 44 U.S.C. 3501 et seq.

Author

The principal author of these supplementary rules is State Staff Ranger Dorothy Bensusan, Bureau of Land Management.

For the reasons stated in the Preamble, and under the authority of 43 CFR 8365.1-6, the Colorado State Director, Bureau of Land Management, issues supplementary rules for public lands in Colorado, to read as follows:

Supplementary Rules on Public Lands in Colorado

A. You must not violate any state laws relating to the purchase, possession, use or consumption of alcohol.

B. You must not operate a motor vehicle while under influence of alcohol, in violation of any state law.

C. You must not possess any drug paraphernalia, in violation of any state law.

D. You must not possess or discharge a firearm or explosive device in violation of any state Law.

E. Penalties. On public lands under section 303(a) of the Federal Land Policy and Management Act of 1976 (43 U.S.C. 1733(a) and 43 CFR 8360.0-7), any person who violates any of these supplementary rules may be tried before a United States Magistrate and fined no more than $1,000 or imprisoned for no more than 12 months, or both. Such violations may also be subject to enhanced fines provided for by 18 U.S.C. 3571.

Dated: February 26, 2007.
Sally Wisely,
Colorado State Director, Bureau of Land Management.

[FR Doc. 07-939 Filed 3-1-07; 8:45 am]

BILLING CODE 4310-JB-M